DEPARTMENT OF STATE

[Public Notice 4197]

Shipping Coordinating Committee, Facilitation Committee; Notice of Meeting

The Shipping Coordinating Committee (SHC) will conduct an open meeting at 9:30 a.m. on Tuesday, January 14, 2003, in Room 1303 at U.S. Coast Guard Headquarters, 2100 Second Street, SW., Washington, DC, 20593-0001.

The purpose of the meeting is to review the agenda items to be considered at the thirtieth session of the Facilitation Committee (FAL 30) of the International Maritime Organization (IMO), which is scheduled for January 27 to 31, 2003, at the IMO headquarters in London. Proposed U.S. positions on the agenda items for FAL 30 will be discussed.

The major items for discussion for FAL 30 will include the following:

• Convention on Facilitation of International Maritime Traffic

• Consideration and adoption of proposed amendments to the Annex to the Convention

• Electronic means for the clearance of ships

• Application of the Committee's Guidelines

• General review of the Convention including harmonization with other international instruments

• Prevention and suppression of acts of terrorism against shipping—Facilitation aspects

• Measures and procedures for the treatment of people rescued at sea—Facilitation aspects

• Formalities connected with the arrival, stay and departure of ships

• Formalities connected with the arrival, stay and departure of persons—Stowaways

• Ship/port interface

• Facilitation aspects of other IMO forms and certificates

• Technical co-operation sub-programme for facilitation

Members of the public may attend this meeting up to the seating capacity of the room. Interested persons may seek information by writing: Chief, Office of Standards Evaluation and Development, U.S. Coast Guard Headquarters, Commandant (G-MSR), Room 1400, 2100 Second Street, SW., Washington, DC, 20593-0001 or by calling Mr. David A. Du Pont at: (202) 267-0971.

Dated: December 19, 2002.
Frederick J. Kenney,
Executive Secretary, Shipping Coordinating Committee, Department of State.

[FR Doc. 02-32598 Filed 12-24-02; 8:45 am]

BILLING CODE 4710-07-P